NATIONAL SCIENCE FOUNDATION

Proposal Review Panel for Materials Research; Notice of Meeting

In accordance with the Federal Advisory Committee Act (Pub. L. 92-463 as amended), the National Science Foundation announces the following meeting:

Name: Proposal Review Panel for Materials Research (DMR) #1203.

Dates & Times: April 27, 2006; 7:30 a.m.-8 p.m., April 28, 2006; 8 a.m.-4 p.m.

Place: University of Wisconsin, Madison, WI.

Type of Meeting: Part-Open.

Contact Person: Dr. Thomas Rieker, Program Director, Materials Research Science and Engineering Centers Program, Division of Materials Research, Room 1065, National Science Foundation, 4201 Wilson Boulevard, Arlington, VA 22230, Telephone (703) 292-4914.

Purpose of Meeting: To provide advice and recommendations concerning further support of the Nanoscale Science and Engineering Center (NSEC).

Agenda:

Thursday, April 27, 2006

7:30 a.m.-8:30 a.m. Closed—Executive Session.

8:30 a.m.-5 p.m. Open—Review of the Materials Research Science and Engineering Center at Pennsylvania State University.

5 p.m.-6 p.m. Closed—Executive Session.

6:30 p.m.-8 p.m. Open—Dinner.

Friday, April 28, 2006

8 a.m.-9 a.m. Closed—Executive Session.

9 a.m.-10:30 a.m. Open—Review of the Materials Research Science and Engineering Center at Pennsylvania State University.

10:30 a.m.-4 p.m. Closed—Executive Session, Draft and Review Report.

Reason for Closing: The work being reviewed may include information of a proprietary or confidential nature, including technical information; financial data, such as salaries and personal information concerning individuals associated with the proposals. These matters are exempt under 5 U.S.C. 552b(c), (4) and (6) of the Government in the Sunshine Act.

Dated: March 1, 2006.
Susanne Bolton,
Committee Management Officer.

[FR Doc. 06-2076 Filed 3-3-06; 8:45 am]

BILLING CODE 7555-01-M